DEPARTMENT OF THE INTERIOR

Bureau of Land Management

[UTU 42838]

Opening of National Forest System Lands; Utah

AGENCY: Bureau of Land Management, Interior.

ACTION: Notice of Realty Action.

SUMMARY: Public Land Order No. 7657 partially revoked the Secretarial Order dated December 15, 1906 and revoked the Secretarial Order dated July 27, 1907 in its entirety. This order opens those previously withdrawn lands to such forms of disposition as may by law be made of National Forest System lands and to mining.

DATES: Effective Date: January 20, 2009.

FOR FURTHER INFORMATION CONTACT: Rhonda Flynn, BLM Utah State Office, 440 West 200 South, Suite 500, Salt Lake City, Utah 84101-1345, 801-539-4132.

SUPPLEMENTARY INFORMATION: 1. Public Land Order No. 7657 (71 FR 12712 (2006)) partially revoked the Secretarial Order dated December 15, 1906 and revoked the Secretarial Order dated July 27, 1907, in its entirety. The United States Forest Service has decided that those previously withdrawn lands, described below, can be opened to such forms of disposition as may by law be made of National Forest System lands, including location and entry under the United States mining laws:

a. Secretarial Order dated December 15, 1906.

Dixie National Forest

Salt Lake Meridian

T. 36 S., R. 7 W.,

sec. 7, NE¼SE¼ and NE¼SE¼SE¼.

T. 38 S., R. 8 W.,

sec. 12, lots 3 and 4 and W½SE¼.

The areas described aggregate approximately 200 acres in Garfield and Kane Counties.

b. Secretarial Order dated July 27, 1907

Salt Lake Meridian

T. 36 S., R. 7 W.,

sec. 8, SW¼NW¼ and SW¼;

sec. 17, NW¼.

The area described contains 360 acres in Garfield County.

2. At 10 a.m. on January 20, 2009, the lands described in Paragraph 1 shall be opened to such forms of disposition as may by law be made of National Forest System lands, including location and entry under the United States mining laws, subject to valid existing rights, the provisions of existing withdrawals, other segregations of record, and the requirements of applicable law. Appropriation of lands described in this order under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Authority: 43 CFR 2091.6.

Dated: December 11, 2008.
Selma Sierra,
State Director.

[FR Doc. E8-29894 Filed 12-18-08; 8:45 am]

BILLING CODE 4310-11-P